DEPARTMENT OF COMMERCE

National Institute of Standards and Technology

Submission for OMB Review; Comment Request

The Department of Commerce will submit to the Office of Management and Budget (OMB) for clearance the following proposal for collection of information under the provisions of the Paperwork Reduction Act (44 U.S.C. chapter 35).

Agency: National Institute of Standards and Technology, Commerce.

Title: Analysis of Exoskeleton-Use for Enhancing Human Performance Data Collection.

OMB Control Number: 0693-0083.

Form Number(s): None.

Type of Request: Revision and extension of a current information collection.

Number of Respondents: 180.

Average Hours per Response: 10 minutes.

Burden Hours: 30 hours.

Needs and Uses: NIST's Engineering Laboratory will be developing methods to evaluate performance of exoskeletons in two key areas (1) The fit and motion of the exoskeleton device with respect to the users' body and (2) The impact that using an exoskeleton has on the performance of users executing tasks that are representative of activities in industrial settings. The results of these experiments will inform future test method development at NIST, other organizations, and under the purview of the new American Society for Testing Materials (ASTM) Committee F48 on Exoskeletons and Exosuits. This study had previously been approved through the PRA process, however, updates to the questionnaire are needed to include additional research questions. The changes to the questionnaire are needed to better align research questions with the tasks being performed by subjects. Some additional background information is also being asked to correlate data during analysis of subject performance with age, height, activity level, etc.

Affected Public: Individuals.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-14850 Filed 7-11-19; 8:45 am]

BILLING CODE 3510-13-P